DEPARTMENT OF THE INTERIOR

Geological Survey

[GX23RB00TU7SE00]

Agency Information Collection Activities; Science Communication Strategies Related to Mining Activities

AGENCY: U.S. Geological Survey, Department of the Interior.

ACTION: Notice of information collection; request for comment.

SUMMARY: In accordance with the Paperwork Reduction Act of 1995 (PRA), the U.S. Geological Survey (USGS) is proposing a new information collection.

DATES: Interested persons are invited to submit comments on or before August 14, 2023.

ADDRESSES: Send your comments on this information collection request (ICR) by mail to USGS, Information Collections Clearance Officer, 12201 Sunrise Valley Drive, MS 159, Reston, VA 20192; or by email to gs-info_collections@usgs.gov. Please reference the Office of Management and Budget (OMB) Control Number 1028-NEW Mining Communications in the subject line of your comments.

FOR FURTHER INFORMATION CONTACT: To request additional information about this ICR, contact Rudy Schuster by email at schusterr@usgs.gov, or by telephone at 970-226-9165. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval from OMB. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS has a history of conducting research on uranium-bearing breccia pipe deposits to address data gaps related to the potential effects of uranium exploration and mining activities in the Grand Canyon watershed on people, wildlife, and water resources. The USGS also recognizes a need to use the latest and most effective methods for communicating science to partners and non-scientists. The project proposed herein seeks to identify a path toward efficiently and effectively providing data and results to decision makers, stakeholders, partners, and the public to maximize the utility of science products. This research will advance USGS capability by documenting the efficacy of existing mining-related science communication efforts to partners and advance USGS knowledge and use of communication methods to deliver actionable science to non-science audiences in the future. Information will be collected via semi-structured interviews conducted in-person with USGS partners and members of the general public in the Grand Canyon watershed.

Title of Collection: Science communication strategies related to mining activities.

OMB Control Number: 1028-NEW Mining Communications.

Form Number: None.

Type of Review: New.

Respondents/Affected Public: General Public.

Total Estimated Number of Annual Respondents: 20.

Total Estimated Number of Annual Responses: 20.

Estimated Completion Time per Response: 45 minutes.

Total Estimated Number of Annual Burden Hours: 15 hours.

Respondent's Obligation: Voluntary.

Frequency of Collection: One Time.

Total Estimated Annual Nonhour Burden Cost: None.

An agency may not conduct or sponsor, and a person is not required to respond to, a collection of information unless it displays a currently valid OMB control number.

The authority for this action is the PRA (44 U.S.C. 3501 et seq.).

Rudolph Schuster,
Branch Chief, Social & Economic Analysis, USGS.

[FR Doc. 2023-12808 Filed 6-14-23; 8:45 am]

BILLING CODE P